FEDERAL RESERVE SYSTEM

Formations of, Acquisitions by, and Mergers of Bank Holding Companies; Correction

This notice corrects a notice (FR Doc. E5-7262) published on page 73747 of the issue for Tuesda, December 13, 2005.

Under the Federal Reserve Bank of New York heading, the entry for Community Partners Bancorp, Middletown, New Jersey, is revised to read as follows:

A. Federal Reserve Bank of New York (Jay Bernstein, Bank Supervision Officer) 33 Liberty Street, New York, New York 10045-0001:

1. Community Partners Bancorp, Middletown, New Jersey; to become a bank holding company by acquiring 100 percent of the voting shares of Two River Community Bank, Middletown, New Jersey, and The Town Bank, Westfield, New Jersey.

Comments on this application must be received by January 6, 2006.

Board of Governors of the Federal Reserve System, December 15, 2005.
Robert deV. Frierson,
Deputy Secretary of the Board.

[FR Doc. E5-7556 Filed 12-19-05; 8:45 am]

BILLING CODE 6210-01-S